DEPARTMENT OF ENERGY

Federal Energy Regulatory Commission

Notice of Intent To Prepare an Environmental Assessment, Conduct Scoping Meetings and Site Visit and Soliciting Scoping Comments

March 26, 2003.

Take notice that the following hydroelectric application has been filed with Commission and is available for public inspection:

a. Type of Application: New Major License.

b. Project No.: 2726-012.

c. Date filed: July 29, 2002.

d. Applicant: Idaho Power Company.

e. Name of Project: Upper and Lower Malad Hydroelectric Project.

f. Location: On the Malad River in the Town of Hagerman, Gooding County, Idaho.

g. Filed Pursuant to: Federal Power Act, 16 U.S.C. 791(a)-825(r).

h. Applicant Contact: Lewis Wardle, Relicensing Project Manager, Idaho Power Company, 1221 West Idaho Street, Boise, ID 83707, (208) 388-2964

i. FERC Contact: John Blair, (202) 502-6092, or john.blair@FERC.gov.

j. Deadline for filing scoping comments: June 7, 2003

All documents (original and eight copies) should be filed with: Magalie R. Salas, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov) under the “e-Filing” link.

k. This application is not ready for environmental analysis at this time.

l. Description of the Project: the project consists of (1) an upper diversion dam consisting of a gated spillway section 100 feet long and a flume section 123 long; (2) a concrete flume 4,635 feet long between the upper diversion dam and the upper intake structure; (3) the upper concrete intake structure 80.5 feet long and approximately 21 feet wide; (4) a steel penstock 10 feet in diameter and approximately 238 feet long connected to the upper powerhouse; (5) the upper reinforced concrete powerhouse containing one generating unit having an installed nameplate capacity of 8.27 megawatts; (6) a lower diversion dam consisting of a gated spillway section 163 feet long and a flume section 136 feet long; (7) a concrete flume 5,318 feet long between the lower diversion dam and the lower intake structure; (8) the lower concrete intake structure 85 feet long and approximately 23 feet wide; (9) a steel penstock 12 feet in diameter and approximately 301 feet long connected to the lower powerhouse; (10) the lower reinforced concrete powerhouse containing one generating unit having an installed capacity of 13.5 megawatts; and (11) other appurtenances.

m. A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

n. Scoping Process: The Commission intends to prepare an Environmental assessment (EA) on the project in accordance with the National Environmental Policy Act. The EA will consider both site-specific and cumulative environmental impacts and reasonable alternatives to the proposed action.

Scoping Meetings

FERC staff will conduct one agency scoping meeting and one public meeting. The agency scoping meeting will focus on resource agency and non-governmental organization (NGO) concerns, while the public scoping meeting is primarily for public input. All interested individuals, organizations, and agencies are invited to attend one or both of the meetings, and to assist the staff in identifying the scope of the environmental issues that should be analyzed in the EA. The times and locations of these meetings are as follows:

Public Scoping Meeting

Date: Tuesday, May 6, 2003.

Time: 7 p.m.-9 p.m.

Place: Hagerman Senior and Community Center.

Address: 140 East Lake, Hagerman, Idaho.

Agency Scoping Meeting

Date: Wednesday, May 7, 2003

Time: 9:30 a.m.-noon

Place: Idaho Power Company Headquarters Building

Address: 1221 West Idaho, Bosie, Idaho

Copies of the Scoping Document (SD1) outlining the subject areas to be addressed in the EA were distributed to the parties on the Commission's mailing list. Copies of the SD1 will be available at the scoping meeting or may be viewed on the Commission's Web site at http://www.ferc.gov using the “FERRIS” link. Enter the docket number excluding the last three digits in the docket field to access the document. For assistance, contact FERC Online Support at FERCOnlineSupport@ferc.gov or toll free at 1-866-208-3676, or for TTY, (202) 502-8659. A copy is also available for inspection at the address in item “h” above.

Site Visit

The Applicant and FERC staff will conduct a project site visit beginning at 1 p.m. on Tuesday, May 6, 2003. All interested individuals, organizations, and agencies are invited to attend. All participants should meet at Idaho Power's Hagerman Maintenance Shop located just south of the Malad River Bridge, off Highway 30 north of Hagerman. All participants are responsible for their own transportation to the site. RSVP Lewis Wardle, Idaho Power Company, at (208) 388-2964, if you plan to attend the site visit.

Objectives

At the scoping meetings, the staff will: (1) Summarize the environmental issues tentatively identified for analysis in the EA; (2) solicit from the meeting participants all available information, especially quantifiable data, on the resources at issue; (3) encourage statements from experts and the public on issues that should be analyzed in the EA, including viewpoints in opposition to, or in support of, the staff's preliminary views; (4) determine the resource issues to be addressed in the EA; and (5) identify those issues that require a detailed analysis, as well as those issues that do not require a detailed analysis.

Procedures

The meetings are recorded by a stenographer and become part of the formal record of the Commission proceeding on the project.

Individuals, organizations, and agencies with environmental expertise and concerns are encouraged to attend the meeting and to assist the staff in defining and clarifying the issues to be addressed in the EA.

Magalie R. Salas,
Secretary.

[FR Doc. 03-7867 Filed 4-1-03; 8:45 am]

BILLING CODE 6717-01-P